DEPARTMENT OF HEALTH AND HUMAN SERVICES

Administration for Children and Families

Agency Recordkeeping/Reporting Requirements Under Emergency Review by the Office of Management and Budget (OMB)

Title: Application for the Emergency Fund for TANF Programs.

OMB No.: New.

Description: On February 17, 2009, the President signed the American Recovery and Reinvestment Act of 2009 (Recovery Act), which establishes the Emergency Contingency Fund for State TANF Programs (Emergency Fund) as section 403(c) of the Social Security Act (the Act). This legislation provides up to $5 billion to help States, Territories, and Tribes in fiscal year (FY) 2009 and FY 2010 that have an increase in assistance caseloads or in certain types of expenditures. The Recovery Act made additional changes to TANF—extending supplemental grants through FY 2010, expanding flexibility in the use of TANF funds carried over from one fiscal year to the next, and adding a hold-harmless provision to the caseload reduction credit for States and Territories serving more TANF families.

The Emergency Fund is intended to build upon and renew the principles of work and responsibility that underlie successful welfare reform initiatives. The Emergency Fund provides resources to States, Territories, and Tribes to support work and families during this difficult economic period.

We plan to issue a Program Instruction accompanied by the Emergency Fund Request Form (OFA-100), and instructions for jurisdictions to complete the OFA-100 to apply for emergency funds.

Failure to collect this data would compromise ACF's ability to monitor caseload and expenditure data that must increase in order for jurisdictions to receive awards under the Emergency Fund.

Documentation maintenance on financial reporting for the Emergency Fund is governed by 45 CFR 92.20 and 45 CFR 92.42.

Respondents: State, Territory, and Tribal agencies administering the Temporary Assistance for Needy Families (TANF) Program that are applying for the Emergency Fund.

Annual Burden Estimates
Instrument | Number of respondents | Number of responses per respondent | Average burden hours per response | Total burden hours
Emergency Fund Request Form OFA-100 | 93 | 5 | 24 | 11,160

Estimated Total Annual Burden Hours: 11,160.

There are 116 eligible jurisdictions (50 States, 3 Territories, 62 Tribes, and Washington, DC), and we anticipate that 80 percent of eligible respondents will submit applications for an average of 93 respondents per year.

Respondents only need to submit quarterly data if they are applying for new funds or revising previous submissions. We do not expect all respondents to submit quarterly, so the number of responses per respondent is an overestimate. We anticipate that the submittal process will take eight hours per respondent request per quarter and eight hours for reconciliation. Respondents will average five responses per year for a total annual burden of 3,720 hours.

Additional Information:

ACF is requesting that OMB grant a 90-day approval for this information collection under procedures for emergency processing by June 24, 2009. A copy of this draft information collection, with applicable supporting documentation, may be obtained by calling the Administration for Children and Families, Reports Clearance Officer, Robert Sargis at (202) 690-7275.

Comments and questions about the information collection described above should be directed to the Office of Information and Regulatory Affairs, Attn: OMB Desk Officer for ACF, Office of Management and Budget, Paperwork Reduction Project, 725 17th Street NW., Washington, DC 20503, (202) 395-4718.

Dated: May 28, 2009.
Robert Sargis,
Reports Clearance Officer.

[FR Doc. E9-12970 Filed 6-4-09; 8:45 am]

BILLING CODE 4184-01-P